DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 04-017. Applicant: University of Pennsylvania. Instrument: Electron Microscope, Model Tecnai G² TWIN BioTWIN. Manufacturer: FEI Company, The Netherlands. Intended Use: The instrument is intended to be used to observe a wide variety of biological specimens to detect structural changes within viruses, cells, cellular components, or tissues as related to changes of genes or a variety of treatments in order to identify specific correlations between the molecular change of genes and proteins and the structural changes or abnormalities in the cells and tissues. Application accepted by Commissioner of Customs: September 13, 2004.

Gerald A. Zerdy,
Program Manager, Statutory Import Programs Staff.

[FR Doc. E4-2558 Filed 10-7-04; 8:45 am]

BILLING CODE 3510-DS-P